EQUAL EMPLOYMENT OPPORTUNITY COMMISSION

Sunshine Act Meeting

Agency Holding the Meeting: Equal Employment Opportunity Commission.

Date and Time: Tuesday, February 22, 2005, 2 p.m. eastern time.

Place: Clarence M. Mitchell, Jr. Conference room on the Ninth Floor of the EEOC Office Building, 1801 “L” Street, NW., Washington, DC 20507.

Status: The meeting will be open to the public.

Matters to be Considered:

Open Session

1. Announcement of Notation Votes;

2. Contract for Continuing Health Unit Services; and

3. FY 2005 State & Local Budget Allocations.

Note: In accordance with the Sunshine Act, this meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings.

CONTACT PERSON FOR MORE INFORMATION: Stephen Llewellyn, Acting Executive Officer on (202) 663-4070.

This notice issued February 11, 2005.
Stephen Llewellyn,
Acting Executive Officer, Executive Secretariat.

[FR Doc. 05-3005 Filed 2-11-05; 8:45 am]

BILLING CODE 6750-06-M